DEPARTMENT OF HEALTH AND HUMAN SERVICES

Health Resources and Services Administration

Special Projects of National Significance: An Evaluation and Program Support Center for an HIV Prevention Initiative With HIV-Infected Individuals in Primary Care Settings

AGENCY: Health Resources and Services Administration, HHS.

ACTION: Notice of availability of funds.

SUMMARY: The Health Resources and Services Administration (HRSA) announces the availability of fiscal year (FY) 2002 funds to be awarded under the Special Projects of National Significance (SPNS) program for one (1) Evaluation and Support Center (Center) for an HIV Prevention Initiative with HIV-infected Individuals in Primary Care Settings. The purpose of this new grant initiative is to develop a Center to provide advice and technical assistance regarding program refinement and evaluation to multi-year projects that will be funded during FY 2003.

The SPNS program is authorized by Section 2691 of the Public Health Service (PHS) Act.

HRSA expects to make one award of no more than $300,000 per year for a 5-year project period to support a Center. This Center will initially work with SPNS staff to develop an overall multi-site evaluation of the prevention initiative. Subsequently, the Center will assist grantees on program development and evaluation issues. This is the first SPNS initiative in which an evaluation center will be funded 1 year before demonstration project sites. This approach will give the Center time to create a multi-site evaluation design for the initiative and hire staff before demonstration sites are funded.

During the first year of funding the Center will collaborate with SPNS to refine a proposed multi-site evaluation design for a behavioral intervention program. The Center will be responsible for describing the methods, theoretical framework, and principles of the evaluation design, including the criteria to select demonstration project sites. The Center also must identify how the multi-site evaluation design proposed may affect HIV-related risk behaviors and/or STD/HIV infection rates, and develop a technical assistance plan for grantees.

Throughout the initiative, the SPNS program expects the Center to describe the roles and characteristics of the clients, providers, and practitioners who participate in the interventions, and the prevention interventions used by grantees. In addition, the Center will gather information that will describe the effect of integrating proposed technological interventions into primary care structures and health care systems.

During year 2, the SPNS program anticipates that the Center will spend significant time providing technical assistance to grantees in the following areas: proposed program interventions, assessing interventions, evaluation, and data compilation. During year 3 the Center will continue providing technical assistance on data collection, including quality assurance of the data and identifying the barriers to the target populations of each grantee site. These tasks will continue during year 4 with the Center overseeing the data collection and conducting preliminary data analyses. During year 5 the Center will conduct a final analysis and complete proposed papers, reports, and presentations for dissemination of findings. The Center will also collaborate with both the SPNS staff and the project sites to propose applicability of findings to other Ryan White Comprehensive AIDS Resources Emergency (CARE) Act settings and identify successful interventions that can be sustained through provider training. Specific deliverables and due dates with regard to all of the above are contained in the Program Announcement for the initiative, available from the HRSA Grants Assistance Center (GAC), cited below.

Eligible applicants may include public and private nonprofit entities. With regard to this initiative, all applicants must have significant experience evaluating HIV prevention, HIV care and treatment, and the integration of these endeavors.

This SPNS Initiative is designed to demonstrate and evaluate innovative and replicable HIV service delivery models with regard to HIV prevention in clinical settings. The authorizing legislation specifies three SPNS program objectives: (1) To support the development of innovative models of HIV care; (2) to evaluate the effectiveness of innovative program designs; and (3) to promote replication of effective models. Therefore, crucial factors in appraising proposals for a Center will include, among other factors, the degree to which the applicant's proposals address each of the following criteria:

1. Professional Qualifications of Personnel

2. Organizational Capacity

3. Work Plan

4. Product Development Activities

5. Appropriateness and Justification of the Budget

6. Adherence to Program Guidance

DATES: To allow HRSA to plan for the Objective Review Process, letters of intent are requested from all applicants. Such letters should be sent to: Barbara Aranda-Naranjo, PhD, RN, FAAN, Branch Chief, ATTN: 2002 HIV Prevention and Care Initiative, Demonstration Project Development and Evaluation Branch, Office of Science and Epidemiology, HIV/AIDS Bureau, Health Resources and Services Administration, 5600 Fishers Lane, Room 7C-07, Rockville, MD 20857, or faxed to: 301 443-4965. Such letters should be received by SPNS within 30 days after the publication of this Notice of Availability of Funds in the Federal Register. Receipt of these notices of intent will not be routinely acknowledged.

EFFECTIVE DATE: Applications must be received in the HRSA GAC by the close of business June 12, 2002, to be considered for competition. Applications will meet the deadline if they are either (1) received on or before the deadline date or (2) postmarked on or before the deadline date, and received in time for submission to the objective review panel. A legibly dated receipt from a commercial carrier or U.S. Postal Service will be accepted instead of a postmark. Private metered postmarks shall not be accepted as proof of timely mailing. Applications received after the deadline will be returned to the applicant.

ADDRESSES: The official grant application kit and guidance materials for this announcement may be obtained from: The HRSA Grants Application Center, Attn: CFDA 93.928, 2002 HIV Prevention and Care Initiative, c/o The Login Group, Inc., 901 Russell Avenue, Suite 450, Gaithersburg, MD 20879; telephone: 877-477-2123.

Applicants must obtain the Guidance in order to prepare applications. Please mail completed applications to the HRSA Grants Application Center, as per above. Applicants for grants will use Revised Form PHS 5161-1, approved under OMB Control No. 0937-0189. This form may also be downloaded from the DHHS Program Support Center (PSC) website at: http://forms.psc.gov/forms/. All applications submitted to the SPNS program will be reviewed and rated by an objective review panel.

FOR FURTHER INFORMATION CONTACT: Additional information regarding business, administrative, and fiscal issues related to the awarding of grants under this Notice may be requested from Ms. Mary Douglas, Grants Management Specialist, HIV/AIDS Bureau, Health Resources and Services Administration, 5600 Fishers Lane, Room 7-89, Rockville, MD 20857; telephone 301-443-1262; fax 301-594-6096; e-mail address mdouglas@hrsa.gov.

Additional information related to technical and program issues regarding the overall SPNS Program may be requested from Faye E. Malitz, M.S., Branch Chief, Attn: 2002 HIV Prevention and Care Initiative, Epidemiology and Data Analysis Branch, Office of Science and Epidemiology, HIV/AIDS Bureau, Health Resources and Services Administration, 5600 Fishers Lane, Room 7-90, Rockville, MD 20857; telephone 301-443-3259; fax 301-594-2511; e-mail address fmalitz@hrsa.gov.

Technical assistance regarding this funding announcement, may be requested from John Hannay, Special Program Consultant, Demonstration Program and Evaluation Branch, HIV/AIDS Bureau, Health Resources and Services Administration, 5600 Fishers Lane, Parklawn Building, Room 7C-07, Rockville, MD 20857; voicemail 301-443-0232; fax 410-730-6061; e-mail address SPNS2002@aol.com.

Healthy People 2010 Objectives: The PHS encourages applicants to address at least one of the Healthy People 2010 objectives related to HIV and AIDS in their work plans. Potential applicants may obtain a copy of Healthy People 2010 (Full Report) or Healthy People 2010 (Summary Report) through the Superintendent of Documents, Government Printing Office, Washington, DC 20402-9325 (website: http://www.access. gpo.gov; telephone: 202-512-1800).

SUPPLEMENTARY INFORMATION:

HIV prevention efforts to date have focused primarily on reducing the risk of infection among persons who are not infected with HIV. The programs of the Centers for Disease Control and Prevention (CDC) have generally focused on individuals not infected who engage in “high risk” sexual and drug using activities. However, recent research suggests that HIV-infected individuals also engage in risky activities.

These behaviors are frequent and appear to be increasing among HIV-infected populations. Several factors may be contributing to this trend. People using risk reduction behaviors may be tiring of doing so after more than 15 years of hearing prevention messages. Furthermore, treatment advances that have dramatically improved the health and quality of life for people infected with HIV may be leading persons to believe that transmission risk is low or HIV disease is easily managed.

Interventions targeting HIV-infected men and women are therefore needed. SPNS wants to know how HIV providers in primary care settings can contribute to the prevention of treatment resistant re-infection among persons who are already infected as well as the prevention of infections among those not infected who engage in “high risk” activities. Studies have shown that clinician-delivered prevention interventions can be effective with an array of other health issues. Furthermore, clinicians can often link patients needing intensive or ongoing behavioral interventions to other prevention services in the community. Recommendations for clinicians on how to incorporate risk screening and brief intervention messages into regular office visits are currently under development by the joint efforts of CDC, HRSA, the National Institutes of Health, and the Infectious Disease Society of America.

Availability of Funds: The SPNS program is authorized by Section 2691 of the PHS Act. Grants may be awarded directly to public and non-profit private entities, including community-based organizations. The program has $1.5 million dollars available for this Center initiative, at $300,000 per year for 5 years. The budget and project periods for approved and funded projects will begin on or about September 1, 2002. Funds must be requested for all 5 years of the initiative.

All applicants funded should recognize that this initiative is not designed to provide continuous support once the initiative is complete and evaluated. Applicants are strongly encouraged to secure non-SPNS funding support during their initiative if the evaluation suggests that the Center is effective and merits continuation.

Eligible Applicants: The statute, Section 2691(a) specifies that grants may be awarded to public and non-profit private entities to fund special programs for the care and treatment of people with HIV disease. Eligible applicants may include, but are not limited to, State, local, or tribal public health, mental health, housing, or substance abuse departments; public or non-profit hospitals and medical facilities; faith-based and community-based service organizations (e.g., AIDS service organizations, federally-qualified health centers, family planning centers, AIDS anti-discrimination and advocacy organizations, homeless assistance providers, hemophilia centers, community mental health centers, substance abuse treatment centers, urban and tribal Indian health centers or facilities, migrant health centers, etc.), institutions of higher education (e.g., Historically Black Colleges and Universities, Hispanic Serving Institutions, and Tribal Colleges and Universities), and national service provider and/or policy development associations and organizations.

Allowable Costs: The basis for determining allocable and allowable costs to be charged to PHS grants is set forth in 45 CFR Part 74 and 45 CFR Part 92 for State, local, or tribal governments. The four separate sets of cost principles prescribed for public and private non-profit recipients are: Office of Management and Budget (OMB) Circular A-87 for State, local or tribal governments; OMB Circular A-21 for institutions of higher education; 45 CFR Part 74, Appendix E for hospitals; and OMB Circular A-122 for non-profit organizations. Further information on allowable costs is contained in the Guidance.

Reporting and Other Requirements: In addition to deliverables described in guidance materials, the successful applicant under this notice must submit two semi-annual activity summary reports, in accordance with provisions of the general regulations which apply under 45 CFR Part 74.51 “Monitoring and Reporting of Program Performance” (with the exception of State and local governments to which 45 CFR Part 40 reporting requirements apply), and comply with audit requirements of OMB Circular A-133. Further, the PHS also strongly encourages all award recipients to provide a smoke-free workplace and to promote the non-use of all tobacco products. In particular, Public Law 103-227, the Pro-Children Act of 1994, prohibits smoking in certain facilities (or in some cases, any portion of a facility) in which regular or routine education, library, day care, health care or early childhood development services are provided to children.

Public Health System Reporting Requirements: This program is also subject to the PHS Reporting Requirements which have been approved by the OMB under No. 0937-0195. Under these requirements, any community-based, non-governmental applicant must prepare and submit a Public Health System Impact Statement (PHSIS). The PHSIS is intended to keep State and local health officials appraised of proposed health services grant applications submitted from within their jurisdictions. Instructions on this matter are contained in the Guidance for this initiative, available from the GAC, previously cited.

Executive Order 12372: The SPNS Grant Program is subject to the provisions of Executive Order 12372, concerning intergovernmental review of Federal Programs, as implemented by 45 CFR part 100. Executive Order 12372 allows States the option of setting up a system for reviewing applications from within their States for assistance under certain Federal programs. The application packages to be made available under this notice will contain a listing of States which have chosen to set up a review system and will provide a State Single Point of Contact (SPOC) for the review. Applicants (other than federally recognized Indian tribes) should contact their SPOCs as early as possible to alert them to the prospective applications and receive any necessary instructions on the State process. For proposed projects serving more than one State, the applicant is advised to contact the SPOC of each affected State. The due date for State process recommendations under E.O. 12372 is 60 days after the application due date. HRSA does not guarantee that it will accommodate or explain its responses to State process recommendations received after that date. (See “Intergovernmental Review of Federal Programs,” Executive Order 12372, and CFR part 100, for a description of the review process and requirements.)

Audit Requirements: Applicants are required to comply with requirements of OMB Circular A-133. For additional information on this topic, contact the Grants Management Specialist at 301-443-1262.

The OMB Catalog of Federal Domestic Assistance number for the Special Projects of National Significance is 93.928.
Dated: April 3, 2002.
Elizabeth M. Duke,
Administrator.

[FR Doc. 02-10512 Filed 4-29-02; 8:45 am]

BILLING CODE 4165-15-P